GENERAL SERVICES ADMINISTRATION

[OMB Control No. 3090-0057]

Information Collection; Standard Form 150, Deposit Bond-Individual Invitation, Sale of Government Personal Property

AGENCY: Federal Supply Service, GSA.

ACTION: Notice of request for comments regarding a renewal to an existing OMB clearance.

SUMMARY: Under the provisions of the Paperwork Reduction Act of 1995 (44 U.S.C. Chapter 35), the General Services Administration will be submitting to the Office of Management and Budget (OMB) a request to review and approve a renewal of a currently approved information collection requirement regarding Standard Form 150, Deposit Bond-Individual Invitation, Sale of Government Personal Property.

Public comments are particularly invited on: Whether this collection of information is necessary and whether it will have practical utility; whether our estimate of the public burden of this collection of information is accurate, and based on valid assumptions and methodology; ways to enhance the quality, utility, and clarity of the information to be collected.

DATES: Submit comments on or before: May 31, 2005.

FOR FURTHER INFORMATION CONTACT: Ms. Iris Wright-Simpson, Property Disposition Specialist, Personal Property Center, at (703) 305-7011 or via email at iris.wright-simpson@gsa.gov.

ADDRESSES: Submit comments regarding this burden estimate or any other aspect of this collection of information, including suggestions for reducing this burden to the Regulatory Secretariat (VIR), General Services Administration, Room 4035, 1800 F Street, NW., Washington, DC 20405. Please cite OMB Control No. 3090-0057, Standard Form 150, Deposit Bond-Individual Invitation, Sale of Government Personal Property, in all correspondence.

SUPPLEMENTARY INFORMATION:

A. Purpose

The General Services Administration is requesting the Office of Management and Budget (OMB) to review and approve information collection, 3090-0057, concerning Deposit Bond Individual-Sale of Government Personal Property. This form is used by bidders participating in sales of Government personal property whenever the sales invitation permits an individual type of deposit bond in lieu of cash or other form of bid deposit.

B. Annual Reporting Burden

Respondents:1000

Responses Per Respondent:1

Total Responses: 1000

Hours Per Response: .25

Total Burden Hours: 250

Obtaining Copies of Proposals: Requesters may obtain a copy of the information collection documents from the General Services Administration, Regulatory Secretariat (VIR), 1800 F Street, NW., Room 4035, Washington, DC 20405, telephone (202) 208-7312. Please cite OMB Control No. 3090-0057, Standard Form 150, Deposit Bond-Individual Invitation, Sale of Government Personal Property, in all correspondence.

Dated: March 24, 2005
Michael W. Carleton,
Chief Information Officer.

[FR Doc. 05-6415 Filed 3-31-05; 8:45 am]

BILLING CODE 6820-89-S